DEPARTMENT OF JUSTICE

National Institute of Corrections

Solicitation for a Cooperative Agreement—The Instructional Theory Into Practice (ITIP) Guidance Tools Project

AGENCY: National Institute of Corrections, Department of Justice.

ACTION: Solicitation for Cooperative Agreement.

SUMMARY: The National Institute of Corrections (NIC) is soliciting proposals from organizations, groups, or individuals to enter into a cooperative agreement for a nine month project period. Work under this agreement will result in a “tool kit” to aid those charged with assessing the quality of lesson plans to include performance objectives, content delivery strategies, training activities, and supplemental materials. The tool kit will be framed around the Instructional Theory Into Practice model. In addition to providing assessment guidance, the tool kit will provide a brief history of the model, a description of the relevant research, a glossary, and a list of relevant references and websites.

It is anticipated that the tool kit will be used by training staff from: (1) Federal, State, and local corrections agencies, (2) all agency levels, and (3) agencies of all sizes and levels of funding. Consequently, the tool kit must provide sufficient rational and background information where needed, be easily understood, and convenient to use. Since many NIC Corrections Program Specialists (CPS) are responsible for coordinating and, in some cases, developing and delivering training, the tool kit will be developed and tested using input and feedback from NIC staff.

Ultimately the tool kit will allow users to develop lesson plans and review, assess, and provide feedback on lesson plans and training materials prepared by others. It must be easy to use by training coordinators.

DATES: Applications must be received by 4 p.m. EDT on July 24, 2009. Selection of the successful applicant and notification of review results to all applicants will be sent by August 31, 2009.

ADDRESSES: Mailed applications must be sent to Director, National Institute of Corrections, 320 First Street, NW., Room 5007, Washington, DC 20534. Applicants are encouraged to use Federal Express, UPS, or similar service to ensure delivery by the due date.

Hand delivered applications should be brought to 500 First Street, NW., Washington, DC 20534. At the front desk, call (202) 307-3106, extension 0 for pickup. Faxed applications will not be accepted. The only electronic applications (preferred) that will be accepted can be submitted via http://www.grants.gov.

FOR FURTHER INFORMATION CONTACT: A copy of this announcement can be downloaded from the NIC Web site at http://www.nicic.gov.

All technical or programmatic questions concerning this announcement should be directed to Dee Halley, Correctional Program Specialist, Research and Evaluation Division, National Institute of Corrections. She can be reached by calling 1-800-995-6423 extension 4-0374 or by e-mail at dhalley@bop.gov.

This project consists of six goals. The recipient of the award under this cooperative agreement will: (1) Develop a detailed work plan including major milestones, a description of NIC's role in the project, NIC review and approval points, and a project schedule. Note: the project schedule will be shown by quarters and reflect the number of months from the award date, as opposed to actual dates. (2) Develop a strategy to evaluate the utility and efficacy of the tool kit. This strategy should be practical and suggest short-term outcomes aimed at determining the quality of the lesson plans developed or reviewed using the tool kit. (3) Obtain input from NIC staff regarding, but not limited to, problems experienced in assessing lesson plans and training materials, providing guidance to developers on how lesson plans and materials can be improved, and how the tool kit can be structured in a way that increases the likelihood it will be used. (4) Provide a plan for the development of a tool kit to include the format and structure, major components with a brief content description and any appendices, forms, or additional information. (5) Develop and test the first draft of the tool kit. Included under this goal is the collection and assessment of feedback information, and development of recommended changes for NIC approval. (6) Revise the tool kit as indicated and deliver a camera ready copy of the product. For all awards in which a document will be a deliverable, the awardee must follow the Guidelines for Preparing and Submitting Manuscripts for Publication as found in the “General Guidelines for Cooperative Agreements” which will be included in the award package.

Required Expertise: Applicants should be able to demonstrate the capacity to accomplish all six project goals and have experience with curriculum and lesson plan development, training delivery, the ITIP model, learning styles, adult learning theory, and development of informational products and tools.

Application Requirements: The application should be concisely written, typed double-spaced and reference the NIC Opportunity Number and Title provided in this announcement. The program narrative text is to be limited to 25 double-spaced pages, exclusive of resumes and summaries of experience (do not submit full curriculum vitae). In addition to the program narrative, an application package must include OMB Standard Form 425, Application for Federal Assistance; a cover letter that identifies the audit agency responsible for the applicant's financial accounts as well as the audit period or fiscal year that the applicant operates under (e.g., July 1 through June 30); and an outline of projected costs. The following additional forms must also be included: OMB Standard Form 424A, Budget Information—Non-Construction Programs; OMB Standard Form 424B, Assurances—Non-Construction Programs (all OMB Standard Forms are available at http://www.grants.gov); DOJ/FBOP/NIC Certification Regarding Lobbying, Debarment, Suspension and Other Responsibility Matters; and the Drug-Free Workplace Requirements (available at http://www.nicic.org/Downloads/PDF/certif-frm.pdf.)

Authority: Public Law 93-415.

Funds Available: NIC is seeking the applicants' best ideas regarding accomplishment of the scope of work and the related costs for achieving the goals of this solicitation. The final budget and award amount will be negotiated between NIC and the successful applicant. Funds may only be used for the activities that are linked to the desired outcome of the project.

This project will be a collaborative venture with the NIC Research and Evaluation Division.

Eligibility of Applicants: An eligible applicant is any state or general unit of local government, private agency, educational institution, organization, individual or team with expertise in the described areas. Applicants must have demonstrated ability to implement a project of this size and scope.

Review Considerations: Applications received under this announcement will be subject to the NIC Review Process. The criteria for the evaluation of each application will be as follows:

Programmatic (40%)

Are all of the six project goals and adequately discussed? Is there a clear statement of how each project goal will be accomplished, to include: Major tasks that will lead to achieving the goal; the strategies to be employed; required staffing; and other required resources. Are there any innovative approaches, techniques, or design aspects proposed that will enhance the project?

Organizational (35%)

Does the proposed project staff possess the skills, knowledge, and expertise necessary to design and complete the tasks? Does the applicant agency, institution, organization, individual or team have the organization capacity to achieve the six project goals? Are the proposed project management and staffing plans realistic and sufficient to complete the project within the nine month time frame?

Project Management/Administration (25%)

Does the applicant identify reasonable objectives, milestones, and measures to track progress? If consultants and/or partnerships are proposed, is there a reasonable justification for their inclusion in the project, and a clear structure to insure effective coordination? Is the proposed budget realistic, provide sufficient cost detail/narrative, and represent good value relative to the anticipated results?

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 09PEI28. This number should appear as a reference line in the cover letter, where indicated on Standard Form 424, and outside of the envelope in which the application is sent.

Catalog of Federal Domestic Assistance Number: 16.602.

Executive Order 12372: This program is not subject to the provisions of Executive Order 12372.

Morris L. Thigpen,
Director, National Institute of Corrections.

[FR Doc. E9-15883 Filed 7-6-09; 8:45 am]

BILLING CODE 4410-36-P